DEPARTMENT OF AGRICULTURE

Animal and Plant Health Inspection Service

7 CFR Part 301

[Docket No. APHIS-2007-0104]

Asian Longhorned Beetle; Additions to Quarantined Areas in New York

AGENCY: Animal and Plant Health Inspection Service, USDA.

ACTION: Affirmation of interim rule as final rule.

SUMMARY: We are adopting as a final rule, without change, an interim rule that amended the Asian longhorned beetle regulations by expanding the boundaries of the quarantined areas in New York and restricting the interstate movement of regulated articles from these areas. The interim rule was necessary to prevent the artificial spread of the Asian longhorned beetle to noninfested areas of the United States.

DATES: Effective on July 2, 2008, we are adopting as a final rule the interim rule published at 72 FR 46373-46375 on August 20, 2007.

FOR FURTHER INFORMATION CONTACT: Ms. Julie Twardowski, Assistant Staff Officer, Emergency and Domestic Programs, PPQ, APHIS, 4700 River Road Unit 137, Riverdale, MD 20737-1231; (301) 734-5332.

SUPPLEMENTARY INFORMATION:

Background

The regulations in 7 CFR 301.51-1 through 301.51-9 (referred to below as the regulations) restrict the interstate movement of regulated articles from quarantined areas to prevent the artificial spread of Asian longhorned beetle (ALB) to noninfested areas of the United States. Quarantined areas are listed in § 301.51-3(c) of the regulations.

In an interim rule ¹ effective and published in the Federal Register on August 20, 2007 (72 FR 46373-46375, Docket No. APHIS 2007-0104), we amended the regulations in § 301.51-3 by adding a portion of the Borough of Richmond in the City of New York, NY, to the list of quarantined areas.

¹ To view the interim rule, go to http://www.regulations.gov/fdmspublic/component/main?main=DocketDetail&d=APHIS-2007-0104.

Comments on the interim rule were required to be received on or before October 19, 2007. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 72 FR 46373-46375 on August 20, 2007.

Done in Washington, DC, this 25th day of June 2008.
Cindy J. Smith,
Administrator, Animal and Plant Health Inspection Service.

[FR Doc. E8-15016 Filed 7-1-08; 8:45 am]

BILLING CODE 3410-34-P